ENVIRONMENTAL PROTECTION AGENCY

[FRL-9949-10-ORD]

EPA Board of Scientific Counselors; Charter Renewal

AGENCY: Environmental Protection Agency (EPA).

ACTION: Notice of charter renewal.

SUMMARY: Notice is hereby given that the Environmental Protection Agency (EPA) has determined that, in accordance with the provisions of the Federal Advisory Committee Act (FACA), 5 U.S.C. App. 2, the EPA Board of Scientific Counselors Advisory Board (BOSC) is a necessary committee that is in the public interest. Accordingly, the BOSC will be renewed for an additional two-year period. The purpose of BOSC is to provide advice and recommendations to the Administrator regarding science and engineering research, programs and plans, laboratories, and research management practices. Inquiries may be directed to Tom Tracy, U.S. EPA, (Mail Code 8104R), 1200 Pennsylvania Avenue NW., Washington, DC 20460, telephone (202) 564-6518, or tracy.tom@epa.gov.

Dated: June 27, 2016.
Thomas Burke,
Deputy Assistant Administrator, Office of Research and Development.

[FR Doc. 2016-16790 Filed 7-14-16; 8:45 am]

BILLING CODE 6560-50-P